DEPARTMENT OF TRANSPORTATION

Federal Aviation Administration

14 CFR Part 71

[Airspace Docket No. 02-ASO-25]

Amendment of Class E5 Airspace; Tampa, FA

AGENCY: Federal Aviation Administration (FAA), DOT.

ACTION: Final rule.

SUMMARY: This action amends the Class E5 airspace at Tampa, FL. A Localizer Runway 23 Standard Instrument Approach Procedure (SIAP) has been developed for Vandenberg Airport. As a result, controlled airspace extending upward from 700 feet Above Ground Level (AGL) is needed to accommodate the SIAP.

EFFECTIVE DATE: 0901 UTC, March 20, 2003.

FOR FURTHER INFORMATION CONTACT: Walter R. Cochran, Manager, Airspace Branch, Air Traffic Division, Federal Aviation Administration, P.O. Box 20636, Atlanta, Georgia 30320; telephone (404) 305-5586.

SUPPLEMENTARY INFORMATION:

History

On October 16, 2002, the FAA proposed to amend part 71 of the Federal Aviation Regulations (14 CFR part 71) by amending Class E5 airspace at Tampa, FL (67 FR 63858). This action provides adequate Class E airspace for IFR operations at Vandenberg Airport. Designations for Class E airspace extending upward from 700 feet or more above the surface are published in FAA Order 7400.9K, dated August 30, 2002, and effective September 16, 2002, which is incorporated by reference in 14 CFR part 71.1. The Class E designation listed in this document will be published subsequently in the Order.

Interested parties were invited to participate in this rulemaking proceeding by submitting written comments on the proposal to the FAA. No comments objecting to the proposal were received.

The Rule

This amendment to part 71 of the Federal Aviation Regulations (14 CFR part 71) amends Class E5 airspace at Tampa, FL.

The FAA has determined that this regulation only involves an established body of technical regulations for which frequent and routine amendments are necessary to keep them operationally current. It, therefore, (1) is not a “significant regulatory action” under Executive Order 12866; (2) is not a “significant rule” under DOT Regulatory Policies and Procedures (44 FR 11034; February 26, 1979); and (3) does not warrant preparation of a regulatory evaluation as the anticipated impact is so minimal. Since this is a routine matter that will only affect air traffic procedures and air navigation, it is certified that this rule will not have a significant economic impact on a substantial number of small entities under the criteria of the Regulatory Flexibility Act.

List of Subjects in 14 CFR Part 71

Airspace, Incorporation by reference, Navigation (air).

Adoption of the Amendment

In consideration of the foregoing, the Federal Aviation Administration amends 14 CFR part 71 as follows:

PART 71—DESIGNATION OF CLASS A, CLASS B, CLASS C, CLASS D AND CLASS E AIRSPACE AREAS; AIRWAYS; ROUTES; AND REPORTING POINTS

1. The authority citation for 14 CFR part 71 continues to read as follows:

Authority: 49 U.S.C. 106(g); 40103, 40113, 40120; EO 10854, 24 FR 9565, 3 CFR, 1959-1963 Comp., p. 389; 14 CFR 11.69.

§ 71.1 [Amended]

2. The incorporation by reference in 14 CFR 71.1 of Federal Aviation Administration Order 7400.9K, Airspace Designations and Reporting Points, dated August 30, 2002, and effective September 16, 2002, is amended as follows:

Paragraph 6005 Class E Airspace Areas Extending Upward from 700 feet or More Above the Surface of the Earth.

* * * * *

ASO FL E5 Tampa, FL [Revised]

Tampa International Airport, FL

(Lat. 27°58′32″ N., long. 82°31′59″ W.)

St. Petersburg-Clearwater International Airport

(Lat. 27°54′39″ N., long. 82°41′14″ W.)

MacDill AFB

(Lat. 27°50′57″ N., long. 82°31′17″ W.)

Peter O Knight Airport

(Lat. 27°54′56″ N., long. 82°26′57″ W.)

Albert-Whitted Airport

(Lat. 27°45′54″ N., long. 82°37′38″ W.)

Vandenberg Airport

(Lat. 28°00′50″ N., long. 82°20′43″ W.)

Clearwater Air Park

(Lat. 27°58′35″ N., long. 82°45′31″ W.)

Vandenberg Localizer

(Lat. 28°00′40″ N., long. 82°20′55″ W.)

That airspace extending upward from 700 feet above the surface within a 7-mile radius of Tampa International Airport, St. Petersburg-Clearwater International Airport, MacDill AFB, and Peter O Knight Airport, and within a 6.3-mile radius of Albert-Whitted Airport, and Clearwater Air Park, and within a 6.7-mile radius of Vandenberg Airport and within 4 miles south and 8 miles north of the Vandenberg Localizer northeast course extending from the 6.7-mile radius to 16 miles northeast of the airport; excluding that airspace within the Zephyrhills, FL, and Lakeland, FL, Class E airspace areas.

* * * * *

Issued in College Park, Georgia, on December 11, 2002.
Walter R. Cochran,
Acting Manager, Air Traffic Division, Southern Region.

[FR Doc. 02-32415 Filed 12-23-02; 8:45 am]

BILLING CODE 4910-13-M